DEPARTMENT OF LABOR

Employment and Training Administration

Workforce Innovation and Opportunity Act; Lower Living Standard Income Level

AGENCY: Employment and Training Administration (ETA), Labor.

ACTION: Notice.

SUMMARY: Title I of WIOA requires the U.S. Secretary of Labor (Secretary) to update and publish the LLSIL tables annually, for uses described in the law (including determining eligibility for youth). WIOA defines the term “low income individual” as one who qualifies under various criteria, including an individual who receives, or received for a prior six-month period, income that does not exceed the higher level of the poverty line or 70 percent of the LLSIL. This issuance provides the Secretary's annual LLSIL for 2015 and references the current 2015 Health and Human Services “Poverty Guidelines.” These provisions in WIOA pertaining to LLSIL reflect no change from the prior language under the Workforce Investment Act of 1998, as amended.

DATES: This notice is effective March 27, 2015.

For Further Information or Questions on LLSIL: Please contact Samuel Wright, Department of Labor, Employment and Training Administration, 200 Constitution Avenue NW., Room C-4526, Washington, DC 20210; Telephone: 202-693-2870; Fax: 202-693-3015 (these are not toll-free numbers); Email address: wright.samuel.e@dol.gov. Individuals with hearing or speech impairments may access the telephone number above via Text Telephone (TTY/TDD) by calling the toll-free Federal Information Relay Service at 1-877-889-5627 (TTY/TDD).

For Further Information or Questions on Federal Youth Employment Programs: Please contact Jennifer Kemp, Department of Labor, Employment and Training Administration, 200 Constitution Avenue NW., Room N-4464, Washington, DC 20210; Telephone: 202-693-3377; Fax: 202-693-3113 (these are not toll-free numbers); Email: kemp.jennifer.n@dol.gov. Individuals with hearing or speech impairments may access the telephone number above via TTY by calling the toll-free Federal Information Relay Service at 1-877-889-5627 (TTY/TDD).

SUPPLEMENTARY INFORMATION: The purpose of WIOA is to provide workforce investment activities through statewide and local workforce investment systems that increase the employment, retention, and earnings of participants. WIOA programs are intended to increase attainment of recognized postsecondary credentials by participants and the quality of the workforce, thereby reducing welfare dependency, increase economic self-sufficiency, meet the skill requirements of employers, and enhance the productivity and competitiveness of the Nation.

LLSIL is used for several purposes under WIOA. Specifically, WIOA Section 3(36) defines the term “low income individual” for eligibility purposes, and Sections 127(b)(2)(C) and 132(b)(1)(B)(v)(IV) define the terms “disadvantaged youth” and “disadvantaged adult” in terms of the poverty line or LLSIL for State formula allotments. The governor and state/local workforce development boards (WDBs) use the LLSIL for determining eligibility for youth and adults for certain services. The U.S. Department of Health and Human Services (HHS) published the most current poverty-level guidelines in the Federal Register on January 22, 2015 (Volume 80, Number 14), pp. 3236-3237. The HHS 2015 Poverty guidelines may also be found on the Internet at http://aspe.hhs.gov/poverty/15poverty.cfm. ETA plans to have the 2015 LLSIL available on its Web site at http://www.doleta.gov/llsil/2015/.

WIOA Section 3(36)(B) defines LLSIL as “that income level (adjusted for regional, metropolitan, urban and rural differences and family size) determined annually by the Secretary [of Labor] based on the most recent lower living family budget issued by the Secretary.” The most recent lower living family budget was issued by the Secretary in fall 1981. The four-person urban family budget estimates, previously published by the U.S. Bureau of Labor Statistics (BLS), provided the basis for the Secretary to determine the LLSIL. BLS terminated the four-person family budget series in 1982, after publication of the fall 1981 estimates. Currently, BLS provides data to ETA, which ETA then uses to develop the LLSIL tables, as provided in the Appendices to this Federal Register notice.

ETA published the 2014 updates to the LLSIL in the Federal Register of March 27, 2014, at Vol. 79, No. 59 pp. 17184-17188. This notice again updates the LLSIL to reflect cost of living increases for 2015, by using the percentage change in the most recent 2014 Consumer Price Index for All Urban Consumers (CPI-U) for an area, and then applying this calculation to each of the March 27, 2014 LLSIL figures. The updated figures for a four-person family are listed in Appendix A, Table 1, by region for both metropolitan and non-metropolitan areas. Numbers in all of the Appendix tables are rounded up to the nearest dollar. Since program eligibility for “low-income individuals,” “disadvantaged adults,” and “disadvantaged youth” may be determined by family income at 70 percent of the LLSIL, pursuant to WIOA Sections 3(36), 127(b)(2)(C), and 132(b)(1)(B)(v)(IV), respectively, those figures are listed as well.

I. Jurisdictions

Jurisdictions included in the various regions, based generally on the Census Regions of the U.S. Department of Commerce, are as follows:

A. Northeast

Connecticut, Maine, Massachusetts, New Hampshire, New Jersey, New York, Pennsylvania, Rhode Island, Vermont, Virgin Islands.

B. Midwest

Illinois, Indiana, Iowa, Kansas, Michigan, Minnesota, Missouri, Nebraska, North Dakota, Ohio, South Dakota, Wisconsin.

C. South

Alabama, American Samoa, Arkansas, Delaware, District of Columbia, Florida, Georgia, Kentucky, Louisiana, Marshall Islands, Maryland, Micronesia, Mississippi, North Carolina, Northern Marianas, Oklahoma, Palau, Puerto Rico, South Carolina, Tennessee, Texas, Virginia, West Virginia.

D. West

Arizona, California, Colorado, Idaho, Montana, Nevada, New Mexico, Oregon, Utah, Washington, Wyoming.

Additionally, separate figures have been provided for Alaska, Hawaii, and Guam as indicated in Appendix B, Table 2.

For Alaska, Hawaii, and Guam, the year 2015 figures were updated from the 2014 “State Index” based on the ratio of the urban change in the state (using Anchorage for Alaska and Honolulu for Hawaii and Guam) compared to the West regional metropolitan change, and then applying that index to the West regional metropolitan change.

Data on 23 selected Metropolitan Statistical Areas (MSAs) are also available. These are based on annual and semiannual CPI-U changes for a 12-month period ending in December 2014. The updated LLSIL figures for these MSAs and 70 percent of LLSIL are reported in Appendix C, Table 3.

Appendix D, Table 4 lists each of the various figures at 70 percent of the updated 2014 LLSIL for family sizes of one to six persons. Because Tables 1-3 only list the LLSIL for a family of four, Table 4 can be used to separately determine the LLSIL for families of between one and six persons. For families larger than six persons, an amount equal to the difference between the six-person and the five-person family income levels should be added to the six-person family income level for each additional person in the family. Where the poverty level for a particular family size is greater than the corresponding 70 percent of the LLSIL figure, the figure is shaded. A modified Microsoft Excel version of Appendix D, Table 4, with the area names, will be available on the ETA LLSIL Web site at http://www.doleta.gov/llsil/2015/. Appendix E, Table 5, indicates 100 percent of LLSIL for family sizes of one to six.

II. Use of These Data

Governors should designate the appropriate LLSILs for use within the State from Appendices A, B, and C, containing Tables 1 through 3. Appendices D and E, which contain Tables 4 and 5, which adjust a family of four figure for larger and smaller families, may be used with any LLSIL designated area. The governor's designation may be provided by disseminating information on MSAs and metropolitan and non-metropolitan areas within the state or it may involve further calculations. For example, the State of New Jersey may have four or more LLSIL figures for Northeast metropolitan, Northeast non-metropolitan, portions of the state in the New York City MSA, and those in the Philadelphia MSA. If a workforce investment area includes areas that would be covered by more than one LLSIL figure, the governor may determine which is to be used.

III. Disclaimer on Statistical Uses

It should be noted that publication of these figures is only for the purpose of meeting the requirements specified by WIOA as defined in the law and in any subsequent guidance or regulations. BLS has not revised the lower living family budget since 1981, and has no plans to do so. The four-person urban family budget estimates series has been terminated. The CPI-U adjustments used to update LLSIL for this publication are not precisely comparable, most notably because certain tax items were included in the 1981 LLSIL, but are not in the CPI-U. Thus, these figures should not be used for any statistical purposes, and are valid only for those purposes under WIOA as defined in the law.

Appendix A

Table 1—Lower Living Standard Income Level (for a Family of Four Persons) by Region ¹
Region ² | 2015 Adjusted LLSIL | 70 Percent LLSIL
Northeast:
Metro | $41,954 | $29,368
Non-Metro ³ | 41,994 | 29,396
Midwest:
Metro | 37,014 | 25,910
Non-Metro | 35,711 | 24,998
South:
Metro | 38,485 | 26,939
Non-Metro | 35,533 | 24,873
West:
Metro | 42,887 | 30,021
Non-Metro ⁴ | 42,727 | 29,909
¹ For ease of use, these figures are rounded to the next highest dollar.
² Metropolitan area measures were calculated from the weighted average CPI-U's for city size classes A and B/C. Non-metropolitan area measures were calculated from the CPI-U's for city size class D.
³ Non-metropolitan area percent changes for the Northeast region are no longer available. The Non-metropolitan percent change was calculated using the U.S. average CPI-U for city size class D.
⁴ Non-metropolitan area percent changes for the West region are based on unpublished BLS data.

Appendix B

Table 2—Lower Living Standard Income Level (for a Family of Four Persons), for Alaska, Hawaii and Guam ¹
Region | 2015 Adjusted LLSIL | 70 Percent LLSIL
Alaska:
Metro | $48,043 | $33,630
Non-Metro ² | 51,152 | 35,806
Hawaii, Guam:
Metro | 51,810 | 36,267
Non-Metro ² | 54,609 | 38,226
¹ For ease of use, these figures are rounded to the next highest dollar.
² Non-Metropolitan percent changes for Alaska, Hawaii and Guam were calculated from the CPI-U's for all urban consumers for city size class D in the Western Region. Generally the non-metro areas LLSIL is lower than the LLSIL in metro areas. This year the non-metro area LLSIL incomes were larger because the change in CPI-U was smaller in the metro areas compared to the change in CPI-U in the non-metro areas of Alaska, Hawaii and Guam.

Appendix C

Table 3—Lower Living Standard Income Level (for a Family of Four Persons), for 23 Selected MSAs ¹
Metropolitan statistical areas (MSAs) | 2015 Adjusted LLSIL | 70 Percent LLSIL
Anchorage, AK | $49,244 | $34,471
Atlanta, GA | 34,612 | 24,228
Boston-Brockton-Nashua, MA/NH/ME/CT | 44,808 | 31,366
Chicago-Gary-Kenosha, IL/IN/WI | 38,019 | 26,613
Cincinnati-Hamilton, OH/KY/IN | 36,218 | 25,353
Cleveland-Akron, OH | 37,538 | 26,276
Dallas-Ft. Worth, TX | 34,141 | 23,899
Denver-Boulder-Greeley, CO | 38,300 | 26,810
Detroit-Ann Arbor-Flint, MI | 35,521 | 24,865
Honolulu, HI | 52,741 | 36,919
Houston-Galveston-Brazoria, TX | 34,462 | 24,124
Kansas City, MO/KS | 34,915 | 24,440
Los Angeles-Riverside-Orange County, CA | 42,615 | 29,830
Milwaukee-Racine, WI | 36,595 | 25,617
Minneapolis-St. Paul, MN/WI | 36,540 | 25,578
New York-Northern NJ-Long Island, NY/NJ/CT/PA | 45,053 | 31,537
Philadelphia-Wilmington-Atlantic City, PA/NJ/DE/MD | 40,652 | 28,457
Pittsburgh, PA | 44,495 | 31,147
St. Louis, MO/IL | 34,317 | 24,022
San Diego, CA | 46,274 | 32,392
San Francisco-Oakland-San Jose, CA | 44,850 | 31,395
Seattle-Tacoma-Bremerton, WA | 44,928 | 31,450
Washington-Baltimore, DC/MD/VA/WV ² | 45,460 | 31,822
¹ For ease of use, these figures are rounded to the next highest dollar.
² Baltimore and Washington are calculated as a single metropolitan statistical area.

Appendix D

Table 4: 70 Percent of Updated 2015 Lower Living Standard Income Level (LLSIL), by Family Size

To use the 70 percent LLSIL value, where it is stipulated for WIOA programs, begin by locating the region or metropolitan area where the program applicant resides. These are listed in Tables 1, 2 and 3. After locating the appropriate region or metropolitan statistical area, find the 70 percent LLSIL amount for that location. The 70 percent LLSIL figures are listed in the last column to the right on each of the three tables. These figures apply to a family of four. Larger and smaller family eligibility is based on a percentage of the family of four. To determine eligibility for other size families consult Table 4 and the instructions below.

To use Table 4, locate the 70 percent LLSIL value that applies to the individual's region or metropolitan area from Tables 1, 2 or 3. Find the same number in the “family of four” column of Table 4. Move left or right across that row to the size that corresponds to the individual's family unit. That figure is the maximum household income the individual is permitted in order to qualify as economically disadvantaged under WIOA.

Where the HHS poverty level for a particular family size is greater than the corresponding LLSIL figure, the LLSIL figure appears in a shaded block. For individuals from these size families, consult the 2015 HHS poverty guidelines found on the Health and Human Services Web site at http://aspe.hhs.gov/poverty/15poverty.cfm to find the higher eligibility standard. For individuals from Alaska and Hawaii, consult the HHS guidelines for the generally higher poverty levels that apply in those States.

Appendix E

Table 5: Updated 2015 LLSIL (100 percent), by Family Size

To use the LLSIL to determine the minimum level for establishing self-sufficiency criteria at the State or local level, begin by locating the metropolitan area or region from Table 1, 2 or 3. Then locate the appropriate region or metropolitan statistical area and then find the 2015 adjusted LLSIL amount for that location. These figures apply to a family of four. Locate the corresponding number in the family-of-four column in the table below. Move left or right across that row to the size that corresponds to the individual's family unit.

Table 5.
Family of one | Family of two | Family of three | Family of four | Family of five | Family of six
12,298 | 20,153 | 27,662 | 34,141 | 40,296 | 47,121
12,364 | 20,255 | 27,803 | 34,317 | 40,500 | 47,359
12,417 | 20,342 | 27,920 | 34,462 | 40,671 | 47,564
12,462 | 20,424 | 28,046 | 34,612 | 40,847 | 47,767
12,569 | 20,604 | 28,290 | 34,915 | 41,205 | 48,190
12,792 | 20,958 | 28,777 | 35,521 | 41,917 | 49,018
12,802 | 20,972 | 28,784 | 35,533 | 41,932 | 49,038
12,866 | 21,074 | 28,931 | 35,711 | 42,150 | 49,291
13,042 | 21,377 | 29,346 | 36,218 | 42,744 | 49,986
13,160 | 21,564 | 29,605 | 36,540 | 43,126 | 50,434
13,175 | 21,595 | 29,646 | 36,595 | 43,188 | 50,506
13,326 | 21,844 | 29,983 | 37,014 | 43,677 | 51,090
13,517 | 22,157 | 30,409 | 37,538 | 44,301 | 51,803
13,687 | 22,440 | 30,794 | 38,019 | 44,869 | 52,476
13,794 | 22,604 | 31,031 | 38,300 | 45,196 | 52,860
13,861 | 22,711 | 31,172 | 38,485 | 45,422 | 53,122
14,643 | 23,991 | 32,933 | 40,652 | 47,979 | 56,104
15,109 | 24,763 | 33,986 | 41,954 | 49,514 | 57,900
15,121 | 24,786 | 34,026 | 41,994 | 49,562 | 57,952
15,343 | 25,143 | 34,520 | 42,615 | 50,287 | 58,817
15,384 | 25,213 | 34,617 | 42,727 | 50,427 | 58,977
15,441 | 25,303 | 34,741 | 42,887 | 50,608 | 59,192
16,027 | 26,263 | 36,050 | 44,495 | 52,514 | 61,411
16,134 | 26,441 | 36,305 | 44,808 | 52,881 | 61,838
16,155 | 26,471 | 36,331 | 44,850 | 52,929 | 61,904
16,184 | 26,510 | 36,397 | 44,928 | 53,020 | 62,004
16,222 | 26,588 | 36,494 | 45,053 | 53,163 | 62,184
16,373 | 26,831 | 36,829 | 45,460 | 53,653 | 62,747
16,668 | 27,304 | 37,488 | 46,274 | 54,609 | 63,868
17,304 | 28,348 | 38,922 | 48,043 | 56,696 | 66,310
17,736 | 29,065 | 39,893 | 49,244 | 58,118 | 67,959
18,423 | 30,181 | 41,438 | 51,152 | 60,363 | 70,590
18,662 | 30,571 | 41,974 | 51,810 | 61,140 | 71,508
18,994 | 31,120 | 42,721 | 52,741 | 62,237 | 72,794
19,666 | 32,227 | 44,237 | 54,609 | 64,441 | 75,363

Portia Wu,
Assistant Secretary for Employment and Training Administration.

[FR Doc. 2015-07031 Filed 3-26-15; 8:45 am]

BILLING CODE 4510-FT-P